Memorandum of September 23, 2014

Deepening U.S. Government Efforts To Collaborate With and Strengthen Civil Society

Memorandum for the Heads of Executive Departments and Agencies

The participation of civil society is fundamental to democratic governance. Through civil society, citizens come together to hold their leaders accountable and address challenges that governments cannot tackle alone. Civil society organizations—such as community groups, non-governmental organizations, labor unions, indigenous groups, charitable organizations, faith-based organizations, professional associations, and foundations—often drive innovations and develop new ideas and approaches to solve social, economic, and political problems that governments can apply on a larger scale. Moreover, by giving people peaceful avenues to advance their interests and express their convictions, a free and flourishing civil society contributes to stability and helps to counter violent extremism. Countries should ensure that civil society organizations can engage freely in legitimate and peaceful activity, while recognizing the potential for illicit actors to abuse the sector and establishing proportionate and targeted safeguards to prevent that abuse.

The rights to freedom of expression, peaceful assembly, and association that enable civil society to participate fully in social, economic, and political life are enshrined in the Universal Declaration of Human Rights and the International Covenant on Civil and Political Rights. In many parts of the world, however, these rights are in danger. An increasing number of governments are inhibiting the free operation of civil society and cutting off civil society organizations' ability to receive funding from legitimate sources. In some cases, these restrictions arise out of the implementation of laws, regulations, and administrative measures that are being inappropriately applied; in other cases, the laws, regulations, and administrative measures are themselves problematic. Despite concerted efforts by the United States and a growing number of like-minded governments to address this problem, greater, sustained energy and attention is needed worldwide.

On September 23, 2013, during the United Nations General Assembly, the United States convened a High Level Event on Civil Society that included heads of state, representatives of civil society, the philanthropic community, and multilateral organizations to spur coordinated international action to support and defend civil society. Through the issuance of a Joint Statement on the Promotion and Protection of Civil Society, attendees affirmed that the strength and success of nations depend on allowing civil society to function without interference, and on robust engagement between governments and civil society to advance shared goals of peace, prosperity, and the well-being of all people. Attendees also committed to take concrete steps, individually and jointly, and to lead by example to promote laws, policies, and practices that expand the space for civil society to operate in accordance with international law.

To take further steps to fulfill that commitment, this memorandum directs agencies engaged abroad (as defined in section 6 of this memorandum), including those that do not traditionally work with civil society, to take actions that elevate and strengthen the role of civil society; challenge undue restrictions on civil society; and foster constructive engagement between governments and civil society.

Therefore, by the authority vested in me as President by the Constitution and the laws of the United States of America, I hereby direct the following:

Sec. 1. Engaging in Consultation with Civil Society Representatives. (a) In the conduct of U.S. foreign policy, it is in the national interest to build relationships with people, as well as with governments. Therefore, agencies engaged abroad shall consult with representatives of civil society to explain the views of the United States on particular issues, seek their perspectives, utilize their expertise, and build strong partnerships to address joint challenges.

(b) When traveling overseas, senior U.S. officials of agencies engaged abroad shall seek opportunities to meet with representatives of civil society, especially those who face restrictions on their work and who may benefit from international support and solidarity.

(c) Each agency engaged abroad shall incorporate inclusive outreach to civil society into their international engagement.

Sec. 2. Working with Civil Society Organizations. The U.S. Government works with civil society organizations even when local laws restrict the ability of civil society organizations to operate or where local laws restrict the fundamental freedoms of expression, peaceful assembly, and association, with due regard for the safety of civil society interlocutors and their operations. Agencies engaged abroad shall oppose, through appropriate means, efforts by foreign governments to dictate the nature of U.S. assistance to civil society, the selection of individuals or entities to implement U.S. Government programs, or the selection of recipients or beneficiaries of those programs. Additionally, agencies engaged abroad shall review their internal regulations, policies, and procedures to ensure that programmatic requirements do not inadvertently impede civil society operations.

Sec. 3. Opposing Undue Restrictions on Civil Society and Fundamental Freedoms. (a) Agencies engaged abroad shall oppose, through appropriate means, efforts by foreign governments that restrict the freedoms of expression, peaceful assembly, and association in a manner inconsistent with their international obligations and commitments. Such actions may include urging relevant governments or legislatures to reverse course; making high-level statements or delivering messages publicly or privately; working with local and international civil society organizations and stakeholders, like-minded countries, and regional and multilateral organizations and bodies; and, where possible, providing direct assistance to civil society actors engaged in these efforts.

(b) Agencies engaged abroad shall, where possible, expand the provision of advice and other support to governments seeking to institute legal and political reforms to protect civic space, and to civil society organizations where governments are not engaged in such affirmative reform efforts. This may include funding for democracy, human rights, workers' rights, and governance assistance, as well as emergency support to activists and organizations.

(c) Agencies engaged abroad shall seek diplomatic and programmatic opportunities in regional and multilateral organizations and bodies to protect and strengthen civil society. This shall include efforts to enhance support for the work of the U.N. Special Rapporteurs charged with advancing relevant rights, including the rights to freedom of opinion and expression, peaceful assembly and association, and human rights defenders.

Sec. 4. Facilitating Exchanges between Governments and Civil Society. (a) Agencies engaged abroad shall seek to foster improved relations and understanding between governments and civil society, including in the advancement of social, economic, and development priorities. Such efforts may include training for government and civil society representatives; brokering dialogue between government and civil society representatives; identifying affirmative activities around which governments and civil society organizations can engage; providing legal or other assistance to governments and civil society organizations to draft or improve laws, regulations, and administrative measures; and sharing best practices regarding the proper implementation of these laws.

(b) Agencies engaged abroad that organize public, U.S.-hosted international gatherings shall create opportunities for civil society to substantively engage in such events, where appropriate.

Sec. 5. Reporting on Progress. The National Security Advisor shall prepare an annual report for the President on the Federal Government's progress implementing the requirements of this memorandum. Agencies engaged abroad shall provide the National Security Advisor with any requested information on their progress implementing the requirements of this memorandum to include in this annual report.

Sec. 6. Definitions. For the purposes of this memorandum, “agencies engaged abroad” are the Departments of State, the Treasury, Defense, Justice, Agriculture, Commerce, Labor, Health and Human Services, and Homeland Security, the United States Agency for International Development, the Millennium Challenge Corporation, and the Office of the United States Trade Representative.

Sec. 7. General Provisions. (a) This memorandum is not intended to, and does not, create any right or benefit, substantive or procedural, enforceable at law or in equity by any party against the United States, its departments, agencies, or entities, its officers, employees, or agents, or any other person.

(b) Nothing in this memorandum shall be construed to impair or otherwise affect:

(i) the authority granted by law to an executive department, agency, or the head thereof, or the status of that department or agency within the Federal Government; or

(ii) the functions of the Director of the Office of Management and Budget relating to budgetary, administrative, or legislative proposals.

(c) Nothing in this memorandum shall alter the role of the Secretary of State or Chiefs of Mission in the coordination or implementation of U.S. foreign policy, and this memorandum shall be implemented consistent with agencies' respective missions.

(d) This memorandum shall be implemented consistent with applicable law and subject to the availability of appropriations.

(e) The Secretary of State is hereby authorized and directed to publish this memorandum in the Federal Register.

THE WHITE HOUSE,

Washington, September 23, 2014

[FR Doc. 2014-23229

Filed 9-25-14; 11:15 am]

Billing code 4710-10